ENVIRONMENTAL PROTECTION AGENCY

[EPA-HQ-OGC-2021-0583; FRL-8937-01-OGC]

Proposed Settlement Agreement, Enforcement Action Alleging Air Pollution Violations

AGENCY: Environmental Protection Agency (EPA).

ACTION: Notice of proposed settlement agreement; request for public comment.

SUMMARY: In accordance with the Clean Air Act, as amended (CAA or the Act), notice is given of a proposed settlement agreement in the administrative enforcement action brought by the State of New Jersey, Department of Environmental Protection, Division of Air Enforcement (New Jersey), against the Edison facility owned and operated by the Environmental Protection Agency (EPA) Region 2. In November 2019, New Jersey conducted an inspection of EPA's Edison facility and found several state law violations related to its boilers and emergency generators. EPA worked with New Jersey to bring the boilers and generators back into full compliance by the end of 2020. A draft administrative settlement agreement between EPA and New Jersey that would fully resolve the matter through EPA paying a $8,600 penalty is here proposed and is ready for public notice and comment.

DATES: Written comments on the proposed settlement agreement must be received by October 4, 2021.

ADDRESSES: Submit your comments, identified by Docket ID No. EPA-HQ-OGC-2021-0583, online at https://www.regulations.gov (EPA's preferred method). Follow the online instructions for submitting comments.

Instructions: All submissions received must include the Docket ID number for this action. Comments received may be posted without change to https://www.regulations.gov, including any personal information provided. For detailed instructions on sending comments and additional information on the rulemaking process, see the “Additional Information about Commenting on the Proposed Settlement Agreement” heading under the SUPPLEMENTARY INFORMATION section of this document. Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov, as there may be a delay in processing mail and faxes. Hand-deliveries and couriers may be received by scheduled appointment only. For further information on EPA Docket Center services and the current status, please visit us online at https://www.epa.gov/dockets.

EPA continues to carefully and continuously monitor information from the CDC, local area health departments, and our federal partners so that we can respond rapidly as conditions change regarding COVID-19.

FOR FURTHER INFORMATION CONTACT: Susan Stahle, Air and Radiation Law Office MC-2344A, Office of General Counsel, U.S. Environmental Protection Agency, 1200 Pennsylvania Ave. NW, Washington, DC 20460; telephone (202) 564-1272; email address stahle.susan@epa.gov.

SUPPLEMENTARY INFORMATION:

I. Obtaining a Copy of the Proposed Settlement Agreement

The official public docket for this action (identified by Docket ID No. EPA-HQ-OGC-2021-0583) contains a copy of the proposed settlement agreement.

The electronic version of the public docket for this action contains a copy of the proposed settlement agreement and is available through https://www.regulations.gov. You may use https://www.regulations.gov to submit or view public comments, access the index listing of the contents of the official public docket, and access those documents in the public docket that are available electronically. Once in the system, key in the appropriate docket identification number then select “search.”

II. Additional Information About the Proposed Settlement Agreement

In November 2019, New Jersey conducted an inspection of EPA's Edison facility and found several state law violations regarding EPA's boilers and emergency generators.¹ Based on this inspection, and further information provided by EPA, New Jersey alleged the following types of violations:

¹ While the proposed settlement agreement cites to state law violations, current or prior versions of the cited provisions were also approved into New Jersey's federally enforceable State Implementation Plan under the relevant provisions of the Clean Air Act, 42 U.S.C. 7401 et seq.

• Failure to seek new general permits when the boilers and emergency generators were replaced;

• Operating the boilers and emergency generators with expired general permits;

• Operating one emergency generator on five bad air days;

• Operating one boiler on one bad air day; and

• Improper tune-ups and/or tune-up report submission for two boilers.

EPA worked with New Jersey to bring the boilers and generators back into full compliance by the end of 2020. These steps included: (1) Obtaining new general permits, and setting up an internal calendar to better track when to seek permit renewals; (2) changing a generator setting to require that generator testing be started manually, to avoid automatic startup on bad air days; (3) creating and revising a log sheet to ensure that staff check on “bad air day” status prior to testing the emergency generators; (4) conducting the 2020 tune-up using an outside contractor, with EPA staff attending for training purposes; and (5) submitting the 2020 tune-up reports via a New Jersey online reporting system.

EPA and New Jersey have now tentatively agreed on a proposed settlement agreement that would fully resolve the identified state law violations through payment of a $8,600 penalty, a penalty which would rise to a full penalty of $17,200 if EPA failed to pay that penalty on time. To the extent the alleged violations may have constituted violations of the CAA, EPA and New Jersey agree this proposed agreement would also constitute settlement of any claims New Jersey could have made under the CAA.

In accordance with section 113(g) of the CAA, for a period of 30 days following the date of publication of this document, the Agency will accept written comments relating to the proposed settlement agreement. EPA may withdraw or withhold consent to the proposed settlement agreement if the comments disclose facts or considerations that indicate that such consent is inappropriate, improper, inadequate, or inconsistent with the requirements of the Act.

III. Additional Information About Commenting on the Proposed Settlement Agreement

Submit your comments, identified by Docket ID No. EPA-HQ-OGC-2021-0583, via https://www.regulations.gov. Once submitted, comments cannot be edited or removed from this docket. EPA may publish any comment received to its public docket. Do not submit to EPA's docket at https://www.regulations.gov any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets. For additional information about submitting information identified as CBI, please contact the person listed in the FOR FURTHER INFORMATION CONTACT section of this document. Note that written comments containing CBI and submitted by mail may be delayed and deliveries or couriers will be received by scheduled appointment only.

If you submit an electronic comment, EPA recommends that you include your name, mailing address, and an email address or other contact information in the body of your comment. This ensures that you can be identified as the submitter of the comment and allows EPA to contact you in case EPA cannot read your comment due to technical difficulties or needs further information on the substance of your comment. Any identifying or contact information provided in the body of a comment will be included as part of the comment that is placed in the official public docket and made available in EPA's electronic public docket. If EPA cannot read your comment due to technical difficulties and cannot contact you for clarification, EPA may not be able to consider your comment.

Use of the https://www.regulations.gov website to submit comments to EPA electronically is EPA's preferred method for receiving comments. The electronic public docket system is an “anonymous access” system, which means EPA will not know your identity, email address, or other contact information unless you provide it in the body of your comment.

Please ensure that your comments are submitted within the specified comment period. Comments received after the close of the comment period will be marked “late.” EPA is not required to consider these late comments.

Gautam Srinivasan,
Associate General Counsel.

[FR Doc. 2021-19047 Filed 9-2-21; 8:45 am]

BILLING CODE 6560-50-P